DEPARTMENT OF TRANSPORTATION

Federal Aviation Administration

14 CFR Part 39

[Docket No. FAA-2006-26004; Directorate Identifier 2006-NM-212-AD; Amendment 39-14785; AD 2006-21-02]

RIN 2120-AA64

Airworthiness Directives; Raytheon (Beech) Model 400, 400A, and 400T Series Airplanes; and Raytheon (Mitsubishi) Model MU-300 Airplanes

AGENCY: Federal Aviation Administration (FAA), Department of Transportation (DOT).

ACTION: Final rule; request for comments.

SUMMARY: The FAA is adopting a new airworthiness directive (AD) for all Raytheon (Beech) Model 400, 400A, and 400T series airplanes; and Raytheon (Mitsubishi) Model MU-300 airplanes. This AD requires revising the airplane flight manual to modify the Operating Limitations, Abnormal Procedures, and Normal Procedures, as applicable, for flight in icing conditions. This AD results from multiple reports of high-altitude, dual-engine flameouts on airplanes operating in certain meteorological conditions. We are issuing this AD to advise the flightcrew that the buildup of ice on certain internal areas of the engine could result in a dual-engine flameout and what action they must take to avoid this hazard.

DATES: This AD becomes effective October 25, 2006.

The Director of the Federal Register approved the incorporation by reference of certain publications listed in the AD as of October 25, 2006.

We must receive comments on this AD by December 11, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Raytheon Aircraft Company, Department 62, P.O. Box 85, Wichita, Kansas 67201-0085, for service information identified in this AD.

FOR FURTHER INFORMATION CONTACT: Steve Roell, Aerospace Engineer, Flight Test and Program Management Branch, ACE-117W, FAA, Wichita Aircraft Certification Office, 1801 Airport Road, room 100, Mid-Continent Airport, Wichita, Kansas 67209; telephone (316) 946-4146; fax (316) 946-4107.

SUPPLEMENTARY INFORMATION:

Discussion

We have received a report that, on June 14, 2006, a Raytheon Model 400A (Beechjet 400A) airplane lost all power while in cruise flight near Norfolk, Virginia. Both engines restarted and the airplane landed without further incident. The pilots reported that the airplane was in clouds at the time of the incident. Due to concern about entering a cloud deck, the pilots decided to turn on the engine anti-ice. The pilots followed the instruction in the airplane flight manual (AFM) to reduce power before activating anti-ice. Both engines flamed out simultaneously as soon as they retarded the throttles but before they could turn on the engine anti-ice.

We have also received other reports of engine failure on Model Raytheon 400A (Beechjet 400A) airplanes operating in certain meteorological conditions. Further analysis by the engine manufacturer demonstrated that, with engine anti-ice off, conditions along the engine internal flow path can allow ice crystals to stick on warm surfaces and accrete rapidly in areas like the leading edges of the front inner compressor stator of the engine. The resulting ice buildup could result in a compressor surge or flameout and consequent loss of engine power. This condition, if not corrected, could result in a dual-engine flameout.

Relevant Service Information

We have reviewed the Raytheon temporary changes (TCs), all dated September 15, 2006, to the AFMs specified in the following table. The TCs describe revisions to the AFMs to modify the Operating Limitations, Abnormal Procedures, and Normal Procedures, as applicable, for flight in icing conditions. Accomplishing the revisions to the AFMs as specified in the TCs is intended to adequately address the unsafe condition.

Raytheon Temporary Changes
For Raytheon airplane model— | Use Raytheon TC— | Subject title— | To the Raytheon AFM—
MU-300 (Diamond I) | MR-0460TC5 | In Flight Operation of Ice Protection Systems | MR-0460
MU-300 (Diamond IA) | MR-0873TC5 | In Flight Operation of Ice Protection Systems | MR-0873
400 (Beechjet 400) | 128-590001-13BTC6 | Anti/Deice Systems (In Flight Operation) | 128-590001-13B
400A (Beechjet 400A) | 128-590001-91TC12 | Anti/Deice Systems (In Flight Operation) | 128-590001-91
400A (Beechjet 400A) | 128-590001-95TC13 | Anti/Deice Systems (In Flight Operation) | 128-590001-95
400A (Beechjet 400A) | 128-590001-107TC11 | Anti/Deice Systems (In Flight Operation) | 128-590001-107
400A (Beechjet 400A) | 128-590001-109TC12 | Anti/Deice Systems (In Flight Operation) | 128-590001-109
400A (Beechjet 400A), Hawker 400XP (Model 400A) | 128-590001-167TC18 | Anti/Deice Systems (In Flight Operation) | 128-590001-167
400A (Beechjet 400A) | 128-590001-169TC9 | Anti/Deice Systems (In Flight Operation) | 128-590001-169
400T (Beechjet 400T) | 132-590002-5TC4 | Anti/Deice Systems (In Flight Operation) | 132-590002-5
400T (Beechjet 400T (TX)) | 134-590002-1TC4 | Anti/Deice Systems (In Flight Operation) | 134-590002-1B1

FAA's Determination and Requirements of This AD

The unsafe condition described previously is likely to exist or develop on other airplanes of the same type design. For this reason, we are issuing this AD to advise the flightcrew that the buildup of ice on certain internal areas of the engine could result in a dual-engine flameout and what action they must take to avoid this hazard. This AD requires accomplishing the actions specified in the service information described previously.

FAA's Determination of the Effective Date

Since an unsafe condition exists that requires the immediate adoption of this AD, we have found that notice and opportunity for public comment before issuing this AD are impracticable, and that good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-26004; Directorate Identifier 2006-NM-212-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-21-02 Raytheon Aircraft Company (Formerly Beech): Amendment 39-14785. Docket No. FAA-2006-26004; Directorate Identifier 2006-NM-212-AD.

Effective Date

(a) This AD becomes effective October 25, 2006.

Affected ADs

(b) None.

Applicability

(c) This AD applies to all Raytheon (Beech) Model 400, 400A, and 400T series airplanes; and Raytheon (Mitsubishi) Model MU-300 airplanes; certificated in any category.

Unsafe Condition

(d) This AD results from multiple reports of high-altitude, dual-engine flameout on airplanes operating in certain meteorological conditions. We are issuing this AD to advise the flightcrew that the buildup of ice on certain internal areas of the engine could result in a dual-engine flameout and what action they must take to avoid this hazard.

Compliance

(e) You are responsible for having the actions required by this AD performed within the compliance times specified, unless the actions have already been done.

Revisions to the Airplane Flight Manual (AFM)

(f) Within 7 days after the effective date of this AD, revise the Operating Limitations, Abnormal Procedures, and Normal Procedures sections, as applicable, of the applicable AFM to include the information in the Raytheon temporary changes (TCs), all dated September 15, 2006, as specified in Table 1 of this AD.

Note 1: The actions required by paragraph (f) of this AD may be done by inserting a copy of the applicable TC into the applicable AFM. When the information in the applicable TC has been included in the AFM, the general revisions may be inserted in the AFM and the copy of the applicable TC may be removed, provided the relevant information in the general revisions is identical to that in the applicable TC.

Table 1.—Temporary Changes
For Raytheon airplane model— | Which is identified in the Raytheon TC as— | Use Raytheon TC— | Subject Title— | To the Raytheon AFM—
MU-300 | MU-300 Diamond I | MR-0460TC5 | In Flight Operation of Ice Protection Systems | MR-0460
MU-300 | MU-300 Diamond IA | MR-0873TC5 | In Flight Operation of Ice Protection Systems | MR-0873
400 | Beechjet 400 | 128-590001-13BTC6 | Anti/Deice Systems (In Flight Operation) | 128-590001-13B
400A | Beechjet (Model 400A) | 128-590001-91TC12 | Anti/Deice Systems (In Flight Operation) | 128-590001-91
400A | Beechjet (Model 400A) | 128-590001-95TC13 | Anti/Deice Systems (In Flight Operation) | 128-590001-95
400A | Beechjet (Model 400A) | 128-590001-107TC11 | Anti/Deice Systems (In Flight Operation) | 128-590001-107
400A | Beechjet (Model 400A) | 128-590001-109TC12 | Anti/Deice Systems (In Flight Operation) | 128-590001-109
400A | Beechjet (Model 400A), Hawker 400XP (Model 400A) | 128-590001-167TC18 | Anti/Deice Systems (In Flight Operation) | 128-590001-167
400A | Beechjet (Model 400A) | 128-590001-169TC9 | Anti/Deice Systems (In Flight Operation) | 128-590001-169
400T | Beechjet (Model 400T) | 132-590002-5TC4 | Anti/Deice Systems (In Flight Operation) | 132-590002-5
400T | Beechjet Model 400T (TX) | 134-590002-1TC4 | Anti/Deice Systems (In Flight Operation) | 134-590002-1B1

Alternative Methods of Compliance (AMOCs)

(g)(1) The Manager, Wichita Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Material Incorporated by Reference

(h) You must use the service information specified in Table 2 of this AD to perform the actions that are required by this AD, unless the AD specifies otherwise. The Director of the Federal Register approved the incorporation by reference of these documents in accordance with 5 U.S.C. 552(a) and 1 CFR part 51. Contact Raytheon Aircraft Company, Department 62, P.O. Box 85, Wichita, Kansas 67201-0085, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 2.—Material Incorporated by Reference
Raytheon temporary change— | Dated— | To the Raytheon airplane flight manual—
128-590001-107TC11 | September 15, 2006 | 128-590001-107
128-590001-109TC12 | September 15, 2006 | 128-590001-109
128-590001-13BTC6 | September 15, 2006 | 128-590001-13B
128-590001-167TC18 | September 15, 2006 | 128-590001-167
128-590001-169TC9 | September 15, 2006 | 128-590001-169
128-590001-91TC12 | September 15, 2006 | 128-590001-91
128-590001-95TC13 | September 15, 2006 | 128-590001-95
132-590002-5TC4 | September 15, 2006 | 132-590002-5
134-590002-1TC4 | September 15, 2006 | 134-590002-1B1
MR-0460TC5 | September 15, 2006 | MR-0460
MR-0873TC5 | September 15, 2006 | MR-0873

Issued in Renton, Washington, on September 29, 2006.
Kalene C. Yanamura,
Acting Manager, Transport Airplane Directorate, Aircraft Certification Service.

[FR Doc. E6-16552 Filed 10-6-06; 8:45 am]

BILLING CODE 4910-13-P